DEPARTMENT OF LABOR

Employment and Training Administration

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently the Employment Administration is soliciting comments concerning the proposed extension with change of the Standard Job Corps Center Request for Proposal and Related Contracting Information Reporting Requirements. A copy of the proposed information request (ICR) can be obtained by contacting the office listed below in the addressee section of this notice.

DATES: Written comments must be submitted to the office listed in the addressee section below on or before May 5, 2003.

ADDRESSES: Renee Evans, Office of Job Corps, 200 Constitution Avenue, Room N-4464, Washington, DC 20210. E-mail address: raevans@doleta.gov; Telephone number: (202) 693-3091 (This is not a toll-free number); Fax number: (202) 693-2767.

SUPPLEMENTARY INFORMATION: I. Background: The Job Corps is an intensive, residential training program for economically challenged young people aged 16 to 24 who are out of school and out of work. Job Corps is authorized by Title I, Subtitle C, of the Workforce Investment Act (WIA) of 1998. WIA provides that up to 20 percent of the individuals enrolled in the Job Corps may be nonresidential participants. The program is principally carried out through a nationwide network of 118 Job Corps centers. The centers are located at facilities either owned or leased by the Federal Government. The Department has a direct role in the operation of Job Corps, and does not serve as a pass-through agency for this program. It is the Department's responsibility to establish Job Corps centers and to select operators for them. Of the 118 current centers, 28 are operated through interagency agreements by the Departments of Agriculture and Interior. These centers are located on Federal lands controlled by these two agencies. The remaining 90 centers are managed and operated by large and small corporations and nonprofit organizations selected by the Department in accordance with the Federal Acquisition Regulations, and in most cases through a competitive procurement process. Many of the current contractors manage and operate more than one center.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: The Request for Proposal (RFP) provides potential offerors with the Government's expectations for the development of proposals to operate Job Corps Centers. The proposals developed by offerors in response to the RFP are evaluated in terms of technical factors and costs. These proposals serve the principal basis for selection of a successful offeror. The operation of the Job Corps program is such that many activities required of contractors must be coordinated with organizations, both Federal and nonfederal. Most of the information collection requirements of Job Corps Center operators stem directly from operational needs or are necessary to ensure compliance with Federal requirements and the terms of the contract. Statistical reports are normally generated from source documents directly by the Federal Government, not contractors. During the last two years, several paper forms have been automated, and in many instances, eliminated. Data is entered directly into a database and reports are generated as a result of the data. Examples of these are ETA Forms 2110 (Center Financial Report), 2181 & 2181A (Center Operations Budget), 6-127 (Job Corps Utilization Summary), 6-131A (Disciplinary Discharge), 6-131B (Review Board Hearings), 6-131C (Rights to Appeal), 6-40 (Student Profile), 6-61 (Notice of Termination) and 3-38 (Property Inventory Transcription). In addition, several forms are now provided in Portable Data File (PDF) format. These forms are the 6-125 (Job Corps Health Staff Activity), 6-128 (Job Corps Health Annual Service Costs), 6-112 (Immunization Record), 6-135 (CM Health Record Envelope), 6-136 (CM Health Record Folder), 6-37 (Inspection Residential & Educational Facilities), 6-38 (Inspection Water Supply Facilities), and 6-39 (Inspection of Waste Treatment Facilities Costs.)

Type of Review: Revision.

Agency: Employment and Training Administration.

Title: Standard Center Job Corps Request for Proposal and Related Contractor Information Gathering Reporting Requirements.

OMB Number: 1205-0219.

Recordkeeping: Center operators are required to keep accurate records on each Job Corps student. All records are required to be maintained on Center for five years.

Affected Public: Business, for profit and not-for-profit institutions, and Tribal Governments.

Burden Summary: I. The annual burden hours estimated for the preparation of the Standard Center Job Corps Request for Proposal submitted by new and experienced contractors is 15,300 hours.

II. Data collection for the Center Financial and the Center Operations Budget Reports is made more than quarterly, and is essential to ensure contractor financial compliance with contractual requirements and to ensure orderly operations of the program (1,462 hours).

Required activity | ETA form No. | Number of respondents | Submissions per year | Total annual submissions | Hours per submission | Total burden hours
Center Financial Report | 2110 | 118 | 90 at 12/year 28 at 4/year | 1192 | 1 | 1192
Center Operations Budget | 2181/-2181/A | 90 | 3 | 270 | 1 | 270
Total |  |  |  |  |  | 1,462

III. Data previously collected on the forms listed below is now being collected in an electronic information system (347 hours). Data is entered utilizing a personal computer that transmits the data electronically to a centralized database. From this database many management and performance reports are created. Previously the burden for preparing these forms manually was approximately 8,181 hours.

Required activity | ETA form No. | Number of respondents | Submissions per year | Total annual submissions | Hours per submission | Total burden hours
Job Corps Utilization Summary | 6-127 | 118 | 12 | 1416 | 0.01875 (1 minute) | 27
Disciplinary Discharge | 6-131A | 1500 | 1 | 1500 | 0.01875 | 28
Review Board Hearings | 6-131B | 1500 | 1 | 1500 | 0.01875 | 28
Rights to Appeal | 6-131C | 1500 | 1 | 1500 | 0.01875 | 28
Student Profile | 6-40 | 1500 | 1 | 1500 | 0.01875 | 28
Notice of Termination | 6-61 | 1500 | 1 | 1500 | 0.01875 | 28
Property Inventory Transcription | 3-28 | 126 | 52 | 6552 | 0.0275 (3 minutes) | 180
Total |  |  |  |  |  | 347

Student personnel requirements such as: Student payroll information, student training and education courses received, student leave, disciplinary actions and medical information is also being collected in an electronic information system. The total burden hours last reported for processing these requirements were 46,720 burden hours. However, due to the fact that identical information is being collected for multiple purposes, the burden for additional data entry has been reduced. The initial data entry is maintained in the national database and used for multiple reporting purposes, therefore reducing the need to enter the data more than once. As a result, the burden hours have been reduced from 46,720 to a total of 20,000 hours. The total burden associated with the input of data to data screens is 20,347 hours.

IV. Major record keeping and operational forms listed below that pertain to student and facility administrative matters are not provided in Portable Data Files or PDF forms. The total burden for processing these forms is 22,300 hours.

Required activity | ETA form No. | Number of respondents | Submissions per year | Total annual submissions | Hours per submission | Total burden hours
Job Corps Health Staff Activity | 6-125 | 118 | 1 | 118 | 0.25 (25 min) | 29.5
Job Corps Health Annual Service Costs | 6-128 | 118 | 1 | 118 | 0.25 | 29.5
Immunization Record | 6-112 | 71000 | 1 | 71000 | 0.05 (5 min) | 3550
CM Health Record Envelope | 6-135 | 71000 | 1 | 71000 | 0.125 (13 min) | 8875
CM Health Record Folder | 6-136 | 71000 | 1 | 71000 | 0.125 | 8875
Inspection of Residential & Educational Facilities | 6-37 | 118 | 4 | 472 | 0.5 | 236
Inspection of Waste Treatment Facilities Costs | 6-39 | 23 | 4 | 92 | 1.25 (1 hr. 25 min) | 115
Inspection Water Supply Facilities | 6-38 | 118 | 4 | 472 | 1.25 | 590
Total |  |  |  |  |  | 22,300

V. A total of 7,302 burden hours are estimated for the preparation of the Center Operating Plans listed below that are required for the operation of a Job Corps center.

Required activity | ETA form No. | Number of respondents | Submissions per year | Total annual submissions | Hours per submission | Total burden hours
Center Operation Plan |  | 90 | 1 | 90 | 30 | 2700
Maintenance |  | 118 | 1 | 118 | 5 | 590
C/M Welfare |  | 118 | 1 | 118 | 2 | 236
Annual VST |  | 118 | 1 | 118 | 24 | 2832
Annual Staff Training |  | 118 | 1 | 118 | 1 | 118
Energy Conservation |  | 118 | 1 | 118 | 5 | 590
Outreach |  | 118 | 1 | 118 | 2 | 236
Total |  |  |  |  |  | 7,302

Total Estimated Burden: 66,711 hours.

Total Burden Cost (Capital/Startup): The Office of Job Corps has automated the data collection process for its Centers. The Center Information System allows all centers to directly input data into a national database. As a result, the burden hours associated with the preparation of forms has decreased significantly. The maintenance cost associated with the system is estimated to be $2.7 million a year for hardware and software.

Total Burden Cost (Operating/Maintaining): The costs to contractors for accomplishing record keeping requirements is contracted and computed by the Federal government annually. While precise costs cannot be identified, at the present time and based on past experience, the annual and related costs for contractor staff are estimated to be $955,458, which represents an average cost of $14.00 per hour.

Comments submitted in response to this comment request will be summarized and/or included in the request for Office of Management and Budget approval of the information collection request; they will also become a matter of public record.

Dated: February 27, 2003.
Richard C. Trigg,
Administrator, Office of Job Corps.

[FR Doc. 03-5270 Filed 3-5-03; 8:45 am]

BILLING CODE 4510-30-M